AGENCY FOR INTERNATIONAL DEVELOPMENT

Agency Information Collection Activities; 2025 Digital Development Awards Application

AGENCY: Agency for International Development (USAID).

ACTION: Notice of information collection.

SUMMARY: The U.S. Agency for International Development's Innovation, Technology, and Research Hub invites the general public to review this new information collection. This survey is administered by the USAID Innovation, Technology, and Research Hub's Technology Division. Responses to this survey will be used to select the winners of the 2025 Digital Development Awards once the application opens next year. The Digital Development Awards recognize and celebrate USAID-funded projects and activities that harness the power of digital technology to promote inclusive growth.

DATES: Written comments and recommendations for the proposed information collection should be submitted by February 24, 2025 to www.reginfo.gov/public/do/PRAMain. Find this particular information collection by selecting “Currently under 30-day Review—Open for Public Comments” or by using the search function.

ADDRESSES: To access and review the Google Form, please visit https://docs.google.com/forms/d/e/1FAIpQLSc2oCYXZ5A-PQNzIu952vKo8Cw7-9FELYT2Myuw5x4Z_LrvRg/viewform. Interested persons are invited to submit comments regarding the proposed information collection to digitaldevelopment@usaid.gov.

FOR FURTHER INFORMATION CONTACT: For specific questions related to this collection, please contact John O'Bryan (jobryan@usaid.gov) or 202-216-3443.

SUPPLEMENTARY INFORMATION: The Digital Development Awards recognize and celebrate USAID-funded projects and activities that embrace the Agency's strategic goals of improving development and humanitarian assistance outcomes through the use of digital technology and strengthening open, secure, and inclusive digital ecosystems.

Under the Paperwork Reduction Act (PRA), (44 U.S.C. 3501-3520) Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party for the Agency. Section 3506(c)(2)(A) of the PRA requires Federal Agencies to provide a 60-day notice in the Federal Register concerning each proposed collection of information, including each proposed extension of an existing collection of information, before submitting the collection to OMB for approval. To comply with this requirement, USAID is publishing notice of the proposed collection of information set forth in this document.

The 60-day notice was published November 15, 2024 at 89 FR 90260.

John O'Bryan,
Knowledge & Insights Team Lead, USAID Innovation, Technology, and Research Hub.

[FR Doc. 2025-01335 Filed 1-22-25; 8:45 am]

BILLING CODE 6116-01-P